SECURITIES AND EXCHANGE COMMISSION

[Release No. 34-67156A; File No. SR-ICC-2012-09]

Self-Regulatory Organizations; ICE Clear Credit LLC; Notice of Filing and Immediate Effectiveness of Proposed Rule Change To Amend Schedule 502 of the ICE Clear Credit LLC Rules to Amend the Reference Entity Name for Three Credit Default Swap Contracts and the Reference Obligation International Securities Identification Number Associated With One Credit Default Swap Contract; Correction

June 13, 2012.

AGENCY: Securities and Exchange Commission.

ACTION: Notice; correction.

SUMMARY: The Securities and Exchange Commission published a document in the Federal Register on June 13, 2012, concerning a Notice of Filing and Immediate Effectiveness of Proposed Rule Change to Amend Schedule 502 of the ICE Clear Credit LLC Rules to Amend the Reference Entity Name for Three Credit Default Swap Contracts and the Reference Obligation International Securities Identification Number Associated with One Credit Default Swap Contract. The document contained a typographical error in one section designation.

FOR FURTHER INFORMATION CONTACT: Shahriar Hafizi, Division of Trading and Markets, Securities and Exchange Commission, 100 F Street NE., Washington, DC 20549, (202) 551-7226.

Correction

In the Federal Register of June 13, 2012 in FR Doc. 2012-35462, on page 35464, in the twenty-fifth line of the first column, correct the reference to ICE Clear Credit LLC's Web site to https://www.theice.com/publicdocs/regulatory_filings/ICEClearCredit_052912.pdf.

Dated: June 13, 2012.
Kevin M. O'Neill,
Deputy Secretary.

[FR Doc. 2012-14858 Filed 6-18-12; 8:45 am]

BILLING CODE 8011-01-P